DEPARTMENT OF THE INTERIOR

Office of Surface Mining Reclamation and Enforcement

30 CFR Part 943

[SATS No. TX-072-FOR; Docket ID: OSM-2020-0006; S1D1S SS08011000 SX064A000 256S180110; S2D2S SS08011000 SX064A000 25XS501520]

Texas Regulatory Program

AGENCY: Office of Surface Mining Reclamation and Enforcement, Interior.

ACTION: Final rule; approval of amendment.

SUMMARY: We, the Office of Surface Mining Reclamation and Enforcement (OSMRE), are approving an amendment to the Texas regulatory program under the Surface Mining Control and Reclamation Act of 1977 (SMCRA or the Act). Texas proposes administrative revisions to its regulations to update, correct, and clarify existing rules. These proposals include changing language to gender neutral, updating terms and definitions for consistency with existing Federal and State regulations, and correcting and updating references.

DATES: The effective date is February 13, 2026.

FOR FURTHER INFORMATION CONTACT: Joseph R. Maki, Director, Tulsa Field Office, Office of Surface Mining Reclamation and Enforcement, 1645 South 101st East Avenue, Suite 145, Tulsa, Oklahoma 74128-4629.

SUPPLEMENTARY INFORMATION:

I. Background on the Texas Program

II. Submission of the Amendment

III. OSMRE's Findings

IV. Summary and Disposition of Comments

V. OSMRE's Decision

VI. Statutory and Executive Order Reviews

I. Background on the Texas Program

Subject to OSMRE's oversight, section 503(a) of the Act permits a State to assume primacy for the regulation of surface coal mining and reclamation operations on non-Federal and non-Indian lands within its borders by demonstrating that its program includes, among other things, State laws and regulations that govern surface coal mining and reclamation operations in accordance with the Act and consistent with the Federal regulations. See 30 U.S.C. 1253(a)(1) and (7).

On the basis of these criteria, the Secretary of the Interior conditionally approved the Texas program effective February 16, 1980. You can find background information on the Texas program, including the Secretary's findings, the disposition of comments, and conditions of approval of the Texas program in the February 27, 1980, Federal Register (45 FR 12998). You can also find later actions concerning the Texas program amendments at 30 CFR 943.10, 943.15 and 943.16.

II. Submission of the Amendment

By letter dated August 28, 2020 (Administrative Record No. TX-708), Texas sent us a proposed amendment to its program at its own initiative to update, clarify, and correct existing rules. These changes included the use of gender-neutral language, updates to terms for consistency with the relevant Texas licensing boards, and changes that ensure consistency with decision timelines as required by the Texas Administrative Procedure Act (Texas Government Code chapter 2001).

We announced receipt of the proposed amendment in the April 22, 2021, Federal Register (86 FR 21246). In the same document, we opened the public comment period and provided an opportunity for a public hearing or meeting on the adequacy of the amendment. We did not hold a public hearing or meeting because none were requested. The public comment period ended May 24, 2021.

III. OSMRE's Findings

We made the following findings concerning the amendment under SMCRA and the Federal regulations at 30 CFR 732.15 and 732.17. We are approving the amendment as described below.

The submittal added the wording “or herself” to 16 Texas Administrative Code section (sec.) 12.3 Definitions (89) and (122) in order to make the regulation language gender neutral. In 16 Texas Administrative Code sec. 12.679 Suspension or Revocation of Permits (a)(1) Pattern of violations “him” was replaced with “the permittee”, “his” was replaced with “the” and “he” was replaced with “the Director” also to make the language used gender neutral. These non-substantive changes are in accordance with SMCRA and consistent with the Federal regulations.

Throughout the regulations, the term “registered professional engineer” has been replaced with “professional engineer” and “professional geoscientist” and corresponding definitions for consistency with the relevant Texas licensing boards. These 27 changes can be found at 16 Texas Administrative Code sec. 12.3(132), 12.3(133), 12.137(b), 12.142(3), 12.148(a)(2)(A), 12.148(a)(3)(A), 12.198(b), 12.341(b)(4), 12.344(b)(3), 12.347(a)(11), 12.347(a) and (c)(2), 12.363(b), 2.363(j), 12.363(k), 12.368(c), 12.369(a), 12.369(a)(2)(4), 12.373, 12.401(1), 12.511(b)(4), 12.514(b)(3), 12.517(a)(3), 12.517(a)(11)(B), 12.517(c)(2), 12.535(c), 12.540, and 12.570(1). Although these titles differ from that used in the Federal counterpart regulations, the definition for the “professional engineer” is unchanged, and the corresponding definition of a “professional geoscientist” has been added. Thus, the changes are non-substantive and are no less stringent than SMCRA and no less effective than the corresponding Federal regulations. For example, 30 CFR 780.25 refers to “a qualified, registered, professional engineer, a professional geologist, or in any State which authorizes land surveyors to prepare and certify such plans, a qualified, registered, professional, land surveyor, with assistance from experts in related fields such as landscape architecture[.]” The corresponding Texas definition of “professional engineer” states that it is a “person who is duly licensed by the Texas Board of Professional Engineers and Land Surveyors to engage in the practice of engineering in this state.” 16 Texas Administrative Code sec. 12.3(132).

Texas proposed to revise 16 Texas Administrative Code sec. 12.4 Petitions to Initiate Rulemaking to delete most of the existing language, which mirrors the Federal regulation on petitions to the Director of OSMRE at 30 CFR 700.12 and replace the language with a statement that any petition must be submitted in accordance with 16 Texas Administrative Code sec. 1.301 and the Texas Administrative Procedure Act. The State's proposal is in accordance with SMCRA and consistent with the Federal regulations.

The Texas submittal also added a requirement to notify the commission of the intent to permanently cease and abandon mining operations in 16 Texas Administrative Code sec. 12.100 Responsibilities, sec. 12.398 Cessation of Operations: Permanent and sec. 12.567 Cessation of Operations: Permanent. This requirement is in accordance with SMCRA and consistent with Federal regulations. In sec. 12.106(b)(2), the deadline for the receipt of renewal of a permit has been changed from 180 days to 120 days, aligning it with the Federal counterpart.

The existing language in 16 Texas Administrative Code sec. 12.108(b) Permit Fees sets an annual fee for each acre of land covered by a reclamation bond on December 31 of that year. Texas proposes to revise sec. 12.108(b)(1) to state that the fee is based on the number of acres identified in the permit and approved by the Railroad Commission of Texas, the State regulatory authority. This is consistent with the relevant Federal regulations, which allow a regulatory authority to develop procedures to allow permit fees to be paid over the term of the permit. The Texas amendment adds in 16 Texas Administrative Code sec. 12.121(4) and 12.161(4) the requirement for an applicant to provide the permit expiration date of all other licenses and permits. The requirement for this additional information is in accordance with SMCRA and consistent with Federal regulations.

In 16 Texas Administrative Code sec. 12.126(d) and 12.172(d), Texas updated the reference for the American Public Health Association's Standard Methods for the Examination of Water and Wastewater from the 15th edition to the current 23rd edition. This is in accordance with SMCRA and consistent with Federal regulations.

Within the submittal, at 16 Texas Administrative Code sec. 12.146(a) and (d) and 122.188(a), the original text was broken down into separate sub-paragraphs in order to assist the State staff in their review. This formatting change had no substantial impact on the content contained in the regulation and remains consistent with Federal regulation.

Texas proposed to add 16 Texas Administrative Code sec. 12.146(d)(6) to its regulations. This amendment to the Probable Hydrologic Consequences (PHC) determination is nearly a direct copy of the counterpart Federal regulation at 30 CFR 780.21(b)(3). It is therefore in accordance with SMCRA and consistent with the Federal regulations.

In 16 Texas Administrative Code sec. 12.225(g)(1)(D) the language “and does not continue to be responsible for” has been removed and replaced later in the section with “and the permittee is no longer responsible for the violation, penalty, or fee.” Texas deemed this change necessary to clarify the status of liability due to a transfer of permit. This clarification is in accordance with SMCRA and consistent with the Federal regulations.

Changes in terminology and citations in 16 Texas Administrative Code sec. 12.344(c)(2), 12.347(a), 12.376(d), 12.514(c)(2), 12.517(a), and 12.543(d), to include the replacement of the term “auxiliary” with “emergency”, are due to the revisions of U.S. Department of Agriculture (USDA), Natural Resources Conservation Service Technical Release No. 60 (210-VI-TR60), July 2005. These necessary alterations were required to update the regulation to reflect changes in the cited USDA Technical Release and are in accordance with SMCRA and consistent with the Federal regulations.

As a part of the proposed amendment, Texas submitted several administrative changes to its regulations. Changes in 16 Texas Administrative Code sec. 12.211(c), 12.382, and 12.549 were submitted in order to correct or update references to applicable Texas Administrative Code or statute. In sec. 12.146(e) an acronym was corrected. Sections 12.207(a)(3) and 12.215(g) and (j) were edited to correct internal references within the regulation, and sec. 12.676(c)(1)(a) corrected a grammatical error. The revised language remains in accordance with SMCRA and consistent with the Federal regulations.

IV. Summary and Disposition of Comments

Public Comments

We asked for public comments on the amendment, but none were received.

Federal Agency Comments

On April 27, 2021, under 30 CFR 732.17(h)(11)(i) and section 503(b) of SMCRA, we requested comments on the amendment from various Federal agencies with an actual or potential interest in the Texas program (Administrative Record No. TX-708). We did not receive any comments.

Environmental Protection Agency (EPA) Concurrence and Comments

Under 30 CFR 732.17(h)(11)(ii), we are required to get a written concurrence from EPA for those provisions of the program amendment that relate to air or water quality standards issued under the authority of the Clean Water Act (33 U.S.C. 1251 et seq.) or the Clean Air Act (42 U.S.C. 7401 et seq.). None of the revisions that Texas proposed to make in this amendment pertain to air or water quality standards. However, on April 27, 2021, under 30 CFR 732.17(h)(11)(i), we requested comments from the EPA on the amendment (Administrative Record No. TX-708). The EPA did not respond to our request.

State Historical Preservation Officer (SHPO) and the Advisory Council on Historic Preservation (ACHP)

Under 30 CFR 732.17(h)(4), we are required to request comments from the SHPO and ACHP on amendments that may have an effect on historic properties. On April 27, 2021, we requested comments on the Texas amendment (Administrative Record No. TX-708). We did not receive comments from the SHPO or ACHP.

V. OSMRE's Decision

Section 503(a) of SMCRA requires that the State's program demonstrate that the State has the capability of carrying out the provisions of the Act and meeting its purposes. SMCRA requires consistency of State and Federal standards. Based on the above findings, we are approving Texas' submittal sent to us on August 28, 2020 (Administrative Record No. TX-708) because the proposed regulations are in accordance with SMCRA and consistent with the Federal regulations and do not affect the State's ability to carry out the provisions of the Act and meet its purposes. To implement this decision, we are amending the Federal regulations, at 30 CFR part 943, that codify decisions concerning the Texas program. In accordance with the Administrative Procedure Act, this rule will take effect 30 days after the date of publication.

VI. Statutory and Executive Order Reviews

Executive Order 12630—Governmental Actions and Interference With Constitutionality Protected Property Rights

This rule would not effect a taking of private property or otherwise have taking implications that would result in public property being taken for government use without just compensation under the law. Therefore, a takings implication assessment is not required. This determination is based on an analysis of the corresponding Federal regulations.

Executive Order 12866—Regulatory Planning and Review and Executive Order 13563—Improving Regulation and Regulatory Review

Executive Order 12866, provides that the Office of Information and Regulatory Affairs in the Office of Management and Budget (OMB) will review all significant rules. Pursuant to OMB guidance, dated October 12, 1993 (OMB Memo M-94-3), the approval of State program amendments is exempted from OMB review under Executive Order 12866.

Executive Order 12988—Civil Justice Reform

The Department of the Interior has reviewed this rule as required by section 3 of Executive Order 12988. The Department has determined that this Federal Register document meets the criteria of section 3 of Executive Order 12988, which is intended to ensure that the agency reviews its legislation and proposed regulations to eliminate drafting errors and ambiguity; that the agency writes its legislation and regulations to minimize litigation; and that the agency's legislation and regulations provide a clear legal standard for affected conduct rather than a general standard, and promote simplification and burden reduction. Because section 3 focuses on the quality of Federal legislation and regulations, the Department limited its review under this Executive order to the quality of this Federal Register document and to changes to the Federal regulations. The review under this Executive order did not extend to the language of the State regulatory program or to the program amendment that Texas drafted.

Executive Order 13132—Federalism

This rule has potential federalism implications as defined under section 1(a) of Executive Order 13132. Executive Order 13132 directs agencies to “grant the States the maximum administrative discretion possible” with respect to Federal statutes and regulations administered by the States. Texas, through its approved regulatory program, implements and administers SMCRA and its implementing regulations at the State level. This rule approves an amendment to the Texas program submitted and drafted by the State and, thus, is consistent with the direction to provide maximum administrative discretion to States.

Executive Order 13175—Consultation and Coordination With Indian Tribal Government

The Department of the Interior strives to strengthen its government-to-government relationship with Tribes through a commitment to consultation with Tribes and recognition of their right to Tribal self-governance and sovereignty. We have evaluated this rule under the Department's consultation policy and under the criteria in Executive Order 13175 and have determined that it has no substantial direct effects on the distribution of power and responsibilities between the Federal Government and Tribes. The basis for this determination is that our decision on the Texas program does not include Indian lands as defined by SMCRA or other Tribal lands, and it does not affect the regulation of activities on Indian lands or other Tribal lands. Indian lands under SMCRA are regulated independently under the applicable Federal Indian program. The Department's consultation policy also acknowledges that our rules may have Tribal implications where the State proposing the amendment encompasses ancestral lands in areas with mineable coal. We are currently working to identify and engage appropriate Tribal stakeholders to devise a constructive approach for consulting on these amendments.

Executive Order 13211—Actions Concerning Regulations That Significantly Affect Energy Supply, Distribution, or Use

Executive Order 13211 requires agencies to prepare a Statement of Energy Effects for a rulemaking that is (1) considered significant under Executive Order 12866, and (2) likely to have a significant adverse effect on the supply, distribution, or use of energy. Because this rule is exempt from review under Executive Order 12866 and is not significant energy action under the definition in Executive Order 13211, a statement of energy effects is not required.

National Environmental Policy Act

Consistent with sections 501(a) and 702(d) of SMCRA (30 U.S.C. 1251(a) and 1292(d), respectively) and the U.S. Department of the Interior Departmental Manual, part 516, section 13.5(A), State program amendments are not major Federal actions within the meaning of section 102(2)(C) of the National Environmental Policy Act (42 U.S.C. 4332(2)(C).

Paperwork Reduction Act

This rule does not include requests and requirements of an individual, partnership, or corporation to obtain information and report it to a Federal agency. As this rule does not contain information collection requirements, a submission to the Office of Management and Budget under the Paperwork Reduction Act (44 U.S.C. 3501 et seq.) is not required.

Regulatory Flexibility Act

This rule will not have a significant economic impact on a substantial number of small entities under the Regulatory Flexibility Act (5 U.S.C. 601 et seq.). The State submittal, which is the subject of this rule, is based upon corresponding Federal regulations for which an economic analysis was prepared, and certification made that such regulations would not have a significant economic effect upon a substantial number of small entities. In making the determination as to whether this rule would have a significant economic impact, the Department relied on the data and assumptions for the corresponding Federal regulations.

Congressional Review Act

This rule is not a major rule under 5 U.S.C. 804(2). This rule: (a) does not have an annual effect on the economy of $100 million; (b) will not cause a major increase in costs or prices for consumers, individual industries, Federal, State, or local government agencies, or geographic regions; and (c) does not have significant adverse effects on competition, employment, investment, productivity, innovation, or the ability of U.S.-based enterprises to compete with foreign-based enterprises. This determination is based on an analysis of the corresponding Federal regulations, which were determined not to constitute a major rule.

Unfunded Mandates Reform Act

This rule will not impose an unfunded mandate on State, local, or Tribal governments, or the private sector of more than $100 million per year. The rule does not have a significant or unique effect on State, local, or Tribal governments or the private sector. This determination is based an analysis of the corresponding Federal regulations, which were determined not to impose an unfunded mandate. Therefore, a statement containing the information required by the Unfunded Mandates Reform Act (2 U.S.C. 1531 et seq.) is not required.

List of Subjects in 30 CFR Part 943

Intergovernmental relations, Surface mining, Underground mining.

William L. Joseph,
Regional Director, Interior Regions 3, 4 and 6.

For the reasons set out in the preamble, 30 CFR part 943 is amended as set forth below:

PART 943—TEXAS

1. The authority citation for part 943 continues to read as follows:

Authority: 30 U.S.C. 1201 et seq.

2. Section 943.15 is amended in the table by adding an entry in chronological order by “Date of final publication” to read as follows:

§ 943.15 Approval of Texas regulatory program amendment.

* * * * *

Original amendment submission date | Date of final publication | Citation/description
* * * * * * *
August 28, 2020 | January 14, 2026 | 16 TAC Texas Administrative Code Sections: 12.3(89); 12.3(122); 12.3(132); 12.3(133); 12.4(a) through (d); 12.100(a) through (d); 12.106(a) and (b); 12.108(a) through (c); 12.121(4); 12.126(d); 12.137(b); 12.142(3); 12.146(a)(d) and (e); 12.148(a); 12.161(4); 12.172(d); 12.188(a) through (f); 12.198(b); 12.207(a)(3); 12.211(c); 12.215(g) and (j); 12.225(g); 12.341(b); 12.344(b) and (c); 12.347(a) through (c); 12.363(b)(j) and (k); 12.368(c); 12.369(a); 12.373; 12.376(d); 12.382; 12.398; 12.401(1); 12.511(b); 12.514(b) and (c); 12.517(a) and(c); 12.535(c); 12.540; 12.543(d); 12.549; 12.570; 12.567; 12.676(c); 12.679(a) and (b).

[FR Doc. 2026-00577 Filed 1-13-26; 8:45 am]

BILLING CODE 4310-05-P